ENVIRONMENTAL PROTECTION AGENCY

[FRL-9920-78-ORD]

Environmental Laboratory Advisory Board (ELAB) Meeting Dates and Agenda

AGENCY: Environmental Protection Agency (EPA).

ACTION: Notice of teleconference and face-to-face meetings.

SUMMARY: The Environmental Protection Agency's Environmental Laboratory Advisory Board (ELAB), as previously announced, holds teleconference meetings the third Wednesday of each month at 1:00 p.m. ET and two face-to-face meetings each calendar year. For 2015, teleconference only meetings will be January 21, 2015 at 1:00 p.m. ET; March 18, 2015 at 1:00 p.m. ET; April 15, 2015 at 1:00 p.m. ET; May 20, 2015 at 1:00 p.m. ET; June 17, 2015 at 1:00 p.m. ET; August 19, 2015 at 1:00 p.m. ET; September 16, 2015 at 1:00 p.m. ET; October 21, 2015 at 1:00 p.m. ET; November 18, 2015 at 1:00 p.m. ET; and December 16, 2015 at 1:00 p.m. ET to discuss the ideas and views presented at the previous ELAB meetings, as well as new business. Items to be discussed by ELAB over these coming meetings include: (1) Issues in continuing the expansion of national environmental accreditation; (2) ELAB support to the Agency on issues relating to measurement and monitoring for all programs; and (3) follow-up on some of ELAB's past recommendations and issues. In addition to these teleconferences, ELAB will be hosting their two face-to-face meetings with teleconference line also available on February 2, 2015 at the Hyatt Regency Crystal City in Crystal City, VA at 1:00 p.m. (ET) and on July 13, 2015 at the Hyatt Regency Chicago in Chicago, IL at 1:00 p.m. (CT).

Written comments on laboratory accreditation issues and/or environmental monitoring or measurement issues are encouraged and should be sent to Ms. Lara P. Phelps, DFO, US EPA (E243-05), 109 T.W. Alexander Drive, Research Triangle Park, NC 27709 or emailed to phelps.lara@epa.gov. Members of the public are invited to listen to the teleconference calls, and time permitting, will be allowed to comment on issues discussed during this and previous ELAB meetings.

Those persons interested in attending should call Lara P. Phelps at (919) 541-5544 to obtain teleconference information. For information on access or services for individuals with disabilities, please contact Lara P. Phelps at the number above, preferably at least 10 days prior to the meeting, to give EPA as much time as possible to process your request.

Dated: December 10, 2014.
Robert Kavlock,
Interim EPA Science Advisor.

[FR Doc. 2014-30090 Filed 12-22-14; 8:45 am]

BILLING CODE 6560-50-P